DEPARTMENT OF TRANSPORTATION

National Highway Traffic Safety Administration

49 CFR Part 501

[Docket No. NHTSA-2013-0048]

RIN 2127-AL44

Organization and Delegation of Duties

AGENCY: National Highway Traffic Safety Administration (NHTSA), Department of Transportation (DOT).

ACTION: Final rule.

SUMMARY: National Highway Traffic Safety Administration (NHTSA), Department of Transportation (DOT) is updating its regulations. These regulations govern the organization of the National Highway Traffic Safety Administration and delegations of authority from the Administrator to Agency officers including the Deputy Administrator, Chief Counsel, and Senior Associate Administrators. This rule is a publication of delegations made by the Administrator to other Agency officials.

DATES: This rule is effective April 18, 2013.

FOR FURTHER INFORMATION CONTACT: Ms. Dana Sade, Office of the Chief Counsel, National Highway Traffic Safety Administration, 1200 New Jersey Avenue SE., Washington, DC 20590. Telephone: (202) 366-1834.

SUPPLEMENTARY INFORMATION:

I. Background

This final rule updates the Code of Federal Regulations (CFR) sections that set forth the organization of the National Highway Traffic Safety Administration (NHTSA) and delegations of authority from the NHTSA Administrator to other Departmental officials including the Deputy Administrator, Chief Counsel, and Senior Associate Administrators. The purpose of this rule is to provide a road map to the public and government officials regarding how NHTSA operates, which office is responsible for which tasks, and the authority pursuant to which Agency offices act.

The regulations set forth in 49 CFR Part 501 are outdated and do not accurately reflect how NHTSA operates. For example, Part 501 still references an Executive Director, a position that no longer exists within the Agency. These and other inaccuracies in Part 501 create unnecessary confusion.

This rule amends Part 501 in three ways. First, it removes positions that are outdated and no longer exist within the Agency. Second, it updates the Administrator's delegations to reflect new statutory responsibilities and organizational changes within the Agency. Third, it clarifies the text and updates citations in Part 501 to increase transparency, accessibility, and readability.

This final rule does not impose substantive requirements. It simply updates the CFR to represent the current statutory and organizational posture of the Agency. The final rule is ministerial in nature and relates only to Agency management, organization, procedure, and practice. Therefore, the Agency has determined that notice and comment are unnecessary and that the rule is exempt from prior notice and comment requirements under 5 U.S.C. 553(b)(3)(A). As these changes will not have a substantive impact on the public, the Agency does not expect to receive significant comments on the substance of the rule. Therefore, the Department finds that there is good cause under 5 U.S.C. 553(d)(3) to make this rule effective less than 30 days after publication in the Federal Register.

II. Executive Order 12866 and DOT Regulatory Policies and Procedures

The final rule is not considered a significant regulatory action under Executive Order 12866 and DOT Regulatory Policies and Procedures (44 FR 11034). It was not reviewed by the Office of Management and Budget. There are no costs associated with this rule.

Executive Order 13132

This final rule has been analyzed in accordance with the principles and criteria contained in Executive Order 13132 (“Federalism”). This final rule does not have a substantial direct effect on, or sufficient federalism implications for, the States, nor would it limit the policymaking discretion of the States. Therefore, the consultation requirements of Executive Order 13132 do not apply.

Executive Order 13175

This final rule has been analyzed in accordance with the principles and criteria contained in Executive Order 13175 (“Consultation and Coordination with Indian Tribal Governments”). Because this final rule does not significantly or uniquely affect the communities of the Indian tribal governments and does not impose substantial direct compliance costs, the funding and consultation requirements of Executive Order 13175 do not apply.

Regulatory Flexibility Act

Because no notice of proposed rulemaking is required for this rule under the Administrative Procedure Act, 5 U.S.C. 553, the provisions of the Regulatory Flexibility Act (5 U.S.C. 601 et seq.) do not apply. We also do not believe this rule would impose any costs on small entities as it makes non-substantive corrections. Therefore, I certify this final rule will not have a significant economic impact on a substantial number of small entities.

Paperwork Reduction Act

This rule contains no information collection requirements under the Paperwork Reduction Act of 1995 (44 U.S.C. 3501-3520).

Unfunded Mandates Reform Act

NHTSA has determined that the requirements of Title II of the Unfunded Mandates Reform Act of 1995 do not apply to this rulemaking.

List of Subjects in 49 CFR Part 501

Authority delegations (Government agencies), Organization and functions (Government agencies).

In consideration of the foregoing, NHTSA revises Title 49, Part 501 of the Code of Regulations to read as follows:

PART 501—ORGANIZATION AND DELEGATION OF POWERS AND DUTIES

Sec.
501.1 Purpose.
501.2 General.
501.3 Organization and general responsibilities.
501.4 Succession to Administrator.
501.5 Exercise of authority.
501.6 Secretary's reservations of authority.
501.7 Administrator's reservations of authority.
501.8 Delegations.

Authority: 49 U.S.C. 105 and 322, and delegations of authority at 49 CFR 1.95.

§ 501.1 Purpose.

This part describes the organization of the National Highway Traffic Safety Administration (NHTSA) through the Deputy Administrator, Chief Counsel, Senior Associate Administrator, Associate Administrator, Regional Administrator and Staff Office Director levels and provides for the performance of duties imposed on, and the exercise of powers vested in, the Administrator of the NHTSA (hereafter referred to as the “Administrator”).

§ 501.2 General.

The Administrator is delegated authority by the Secretary of Transportation (49 CFR 1.95) to:

(a) Carry out the following chapters or sections of Title 49 of the United States Code:

(1) Chapter 301—Motor Vehicle Safety.

(2) Chapter 303—National Driver Register.

(3) Chapter 321—General.

(4) Chapter 323—Consumer Information.

(5) Chapter 325—Bumper Standards.

(6) Chapter 327—Odometers.

(7) Chapter 329—Automobile Fuel Economy.

(8) Chapter 331—Theft Prevention.

(9) Section 20134(a), with respect to the laws administered by the National Highway Traffic Safety Administrator pertaining to highway, traffic and motor vehicle safety.

(b) Carry out 23 U.S.C. chapter 4, Highway Safety, as amended, except for section 409.

(c) Exercise the authority vested in the Secretary by section 210(2) of the Clean Air Act, as amended (42 U.S.C. 7544(2)).

(d) Carry out the provisions of 23 U.S.C. 313, Buy America.

(e) Administer the following sections of Title 23, United States Code, in coordination with the Federal Highway Administrator as appropriate:

(1) Section 153.

(2) Section 154.

(3) Section 158.

(4) Section 161.

(5) Section 163.

(6) Section 164.

(f) Carry out the consultation functions vested in the Secretary by Executive Order 11912 (3 CFR, 1976 Comp., p. 114), as amended, relating to automobiles.

§ 501.3 Organization and general responsibilities.

The National Highway Traffic Safety Administration consists of a headquarters organization located in Washington, DC, and a unified field organization consisting of ten geographic regions. The organization of, and general spheres of responsibility within, the NHTSA are as follows:

(a) Office of the Administrator—

(1) Administrator.

(i) Represents the Department and is the principal advisor to the Secretary in all matters related to chapters 301, 303, 321, 323, 325, 327, 329 and 331 of Title 49 U.S.C.; 23 U.S.C. chapter 4, except section 409; as each relates to highway safety, sections 153, 154, 158, 161, 163, 164 and 313 of Title 23 U.S.C.; and such other authorities as are delegated by the Secretary of Transportation (49 CFR sections 1.94 and 1.95);

(ii) Establishes NHTSA program policies, objectives, and priorities and directs development of action plans to accomplish the NHTSA mission;

(iii) Directs, controls, and evaluates the organization, program activities, performance of NHTSA staff, program and field offices;

(iv) Approves broad legislative, budgetary, fiscal and program proposals and plans; and

(v) Takes management actions of major significance, such as those relating to changes in basic organization pattern, appointment of key personnel, allocation of resources, and matters of special political or public interest or sensitivity.

(2) Deputy Administrator. Assists the Administrator in discharging responsibilities. Directs and coordinates the Administration's management and operational programs, and related policies and procedures at headquarters and in the field.

(3) [Reserved]

(4) Director, Executive Correspondence. Provides a central facilitative staff that administers an executive correspondence program and maintains policy files for the Administrator and Deputy Administrator, and services and support to committees as designated by the Administrator.

(5) Director, Office of Civil Rights. As principal staff advisor to the Administrator and Deputy Administrator on all matters pertaining to civil rights, acts as Director of Equal Employment Opportunity, Contracts Compliance Officer and Title VI (Civil Rights Act of 1964) Coordinator; assures Administration-wide compliance with related laws, Executive Orders, regulations and policies; and provides assistance to the Office of the Secretary in investigating and adjudicating formal complaints of discrimination.

(6) Director, Governmental Affairs, Policy & Strategic Planning. As the principal advisor to the Administrator and Deputy Administrator on all intergovernmental matters, including communications with Congress, communicates agency policy and coordinates with the Senior Associate Administrators and Chief Counsel on legislative issues affecting the agency. Also, coordinates Agency policy discussions and activities and coordinates with other operating administrations and the Office of Secretary on strategic planning efforts.

(b) Chief Counsel. As chief legal officer, provides legal services for the Administrator and the Administration; prepares litigation for the Administration; effects rulemaking actions; issues subpoenas; and serves as coordinator on legislative affairs.

(c) Senior Associate Administrators—

(1) Senior Associate Administrator for Policy and Operations. As the principal advisor to the Administrator and Deputy Administrator with regard to core administrative and support services, provides direction and internal management and mission support for such activities. Provides executive direction over the Associate Administrator for Planning, Administrative and Financial Management, the Chief Information Officer, the Director of Human Resources, the Director of Executive Correspondence, the Associate Administrator for Communications and Consumer Information, and the Emergency Coordinator.

(2) Senior Associate Administrator for Vehicle Safety. As the principal advisor to the Administrator and Deputy Administrator with regard to rulemaking, enforcement, vehicle safety research and statistics and data analysis, provides direction and internal management and mission support for such activities. Provides executive direction over the Associate Administrator for Rulemaking, the Associate Administrator for Enforcement, the Associate Administrator for the National Center for Statistics and Analysis, and the Associate Administrator for Vehicle Safety Research.

(3) Senior Associate Administrator for Traffic Injury Control. As the principal advisor to the Administrator and Deputy Administrator with regard to programs to reduce traffic injury, provides direction and internal management and mission support for such activities. Provides executive direction over the Associate Administrator for Research and Program Development and the Associate Administrator for Regional Operations and Program Delivery.

§ 501.4 Succession to Administrator.

(a) The Deputy Administrator is the “first assistant” to the Administrator for purposes of the Federal Vacancies Reform Act of 1998 (5 U.S.C. 3345-3349d), and shall, in the event the Administrator dies, resigns, or is otherwise unable to perform the functions and duties of the office, serve as the Acting Administrator, subject to the limitations in the Federal Vacancies Reform Act of 1998.

(b) In the event of the absence or disability of both the Administrator and the Deputy Administrator, or in the event that both positions are vacant, the following officials, in the order indicated, shall serve as Acting Deputy Administrator and shall perform the functions and duties of the Administrator, except for any non-delegable statutory and/or regulatory functions and duties:

(1) Chief Counsel;

(2) Senior Associate Administrator for Vehicle Safety;

(3) Senior Associate Administrator for Traffic Injury Control;

(4) Senior Associate Administrator for Policy and Operations.

(c) In order to qualify for the line of succession, officials must be encumbered in their position on a permanent basis.

§ 501.5 Exercise of authority.

(a) All authorities lawfully vested in the Administrator and reserved to him/her in this Regulation or in other NHTSA directives may be exercised by the Deputy Administrator and, in the absence of both Officials, by the Chief Counsel, unless specifically prohibited.

(b) In exercising the powers and performing the duties delegated by this part, officers of the NHTSA and their delegates are governed by applicable laws, executive orders, regulations, and other directives, and by policies, objectives, plans, standards, procedures, and limitations as may be issued from time to time by or on behalf of the Secretary of Transportation, the Administrator, the Deputy Administrator and the Chief Counsel or, with respect to matters under their jurisdiction, by or on behalf of the Senior Associate Administrators, Associate Administrators, Regional Administrators, and Directors of Staff Offices.

(c) Each officer to whom authority is delegated by this part may redelegate and authorize successive redelegations of that authority subject to any conditions the officer prescribes. Redelegations of authority shall be in written form and shall be published in the Federal Register when they affect the public.

(d) Each officer to whom authority is delegated will administer and perform the functions described in the officer's respective functional statements.

§ 501.6 Secretary's reservations of authority.

The authorities reserved to the Secretary of Transportation are set forth in § 1.21 of Part 1 and in Part 95 of the regulations of the Office of the Secretary of Transportation in subtitle A of this Title (49 CFR Parts 1 and 95).

§ 501.7 Administrator's reservations of authority.

The delegations of authority in this part do not extend to the following authority which is reserved to the Administrator, except when exercised pursuant to §§ 501.4 and 501.5(a):

(a) The authority under chapter 301—Motor Vehicle Safety—of Title 49 of the United States Code to:

(1) Issue, amend, or revoke final federal motor vehicle safety standards and regulations;

(2) Make final decisions concerning alleged safety-related defects and noncompliances with Federal motor vehicle safety standards;

(3) Grant or renew temporary exemptions from federal motor vehicle safety standards; and

(4) Grant or deny appeals from determinations upon petitions for inconsequential defect or noncompliance.

(b) The authority under 23 U.S.C. chapter 4, as amended, to:

(1) Apportion authorization amounts and distribute obligation limitations for State highway safety programs under 23 U.S.C. 402;

(2) Award grants to the States under the National Priority Safety Programs, 23 U.S.C. 405;

(3) Issue, amend, or revoke uniform State highway safety guidelines and rules identifying highly effective highway safety programs under 23 U.S.C. 402;

(4) Fix the rate of compensation for non-government members of agency sponsored committees which are entitled to compensation.

(c) The authority under chapters 303, 321, 323, 325, and 329 (except section 32916(b)) of Title 49 of the United States Code to:

(1) Issue, amend, or revoke final rules and regulations; and

(2) Assess civil penalties and approve manufacturer fuel economy credit plans under chapter 329.

§ 501.8 Delegations.

(a) Deputy Administrator. The Deputy Administrator is delegated authority to act for the Administrator, except where specifically limited by law, order, regulation, or instructions of the Administrator. The Deputy Administrator is delegated authority to assist the Administrator in providing executive direction to all organizational elements of NHTSA.

(b) [Reserved]

(c) Director, Office of Civil Rights. The Director, Office of Civil Rights is delegated authority to:

(1) Act as the NHTSA Director of Equal Employment Opportunity.

(2) Act as NHTSA coordinator for matters under Title VI of the Civil Rights Act of 1964 (42 U.S.C. 2000d et seq.), Executive Order 12250 (3 CFR, 1980 Comp., p. 298), and regulations of the Department of Justice.

(d) Chief Counsel. The Chief Counsel is delegated authority to:

(1) Exercise the powers and perform the duties of the Administrator with respect to setting of odometer regulations authorized under 49 U.S.C. chapter 327, and with respect to providing technical assistance and granting extensions of time to the states under 49 U.S.C. 32705.

(2) Establish the legal sufficiency of all investigations and enforcement actions conducted under the authority of the following chapters, including notes, of Title 49 of the United States Code Chapters 301, 303, 321, 323, 325, 327, 329 and 331; to make an initial penalty demand based on a violations of any of these chapters; and to compromise any civil penalty or monetary settlement in an amount of $100,000 or less resulting from a violation of any of these chapters.

(3) Exercise the powers of the Administrator under 49 U.S.C. 30166(c), (g), (h), (i), and (k).

(4) Issue subpoenas, after notice to the Administrator, for the attendance of witnesses and production of documents pursuant to chapters 301, 321, 323, 325, 327, 329 and 331 of Title 49 of the United States Code.

(5) Issue authoritative interpretations of the statutes administered by NHTSA and the regulations issued by the agency.

(e) Senior Associate Administrator for Policy and Operations. The Senior Associate Administrator for Policy and Operations is delegated authority for executive direction of the Associate Administrator for Planning, Administrative and Financial Management; the Chief Information Officer; the Director of Human Resources; the Director of Executive Correspondence; the Associate Administrator for Communications and Consumer Information; and the Emergency Coordinator. To carry out this direction, the Senior Associate Administrator for Policy and Operations is delegated authority, except for authority reserved to the Administrator, to direct the NHTSA planning and evaluation system in conjunction with Departmental requirements and planning goals and to coordinate the development of the Administrator's plans, budgets, and programs, and analyses of their expected impact. The Senior Associate Administrator for Policy and Operations is also delegated authority to exercise procurement authority with respect to NHTSA requirements; administer and conduct NHTSA's personnel management activities; administer NHTSA financial management programs, including systems of funds control and accounts of all financial transactions; and conduct administrative management services in support of NHTSA missions and programs.

(f) Senior Associate Administrator for Vehicle Safety. The Senior Associate Administrator for Vehicle Safety is delegated authority for executive direction of the Associate Administrator for Rulemaking, the Associate Administrator for Enforcement, the Associate Administrator for the National Center for Statistics and Analysis, and the Associate Administrator for Vehicle Safety Research. The Senior Associate Administrator for Vehicle Safety exercises executive direction with respect to the setting of standards and regulations for motor vehicle safety, fuel economy, theft prevention, consumer information, and odometer fraud. To carry out this direction, the Senior Associate Administrator for Vehicle Safety is delegated authority, except for authority reserved to the Administrator or the Chief Counsel, to exercise the powers and perform the duties of the Administrator with respect to the setting of motor vehicle safety and theft prevention standards, fuel economy standards, procedural regulations, the National Driver Register, and the development of consumer information and odometer fraud regulations authorized under Chapters 301, 303, 321, 323, 325, 327, 329, and 331 of title 49, United States Code. The Senior Associate Administrator for Vehicle Safety is delegated authority to develop and conduct research and development programs and projects necessary to support the purposes of Chapters 301, 323, 325, 327, 329, and 331 of title 49, United States Code, and Chapter 4 of title 23, United States Code, as amended, in coordination with the appropriate Associate Administrators, and the Chief Counsel. The Senior Associate Administrator for Vehicle Safety is also delegated authority to respond to a manufacturer's petition for exemption from 49 U.S.C. Chapter 301's notification and remedy requirements in connection with a defect or noncompliance concerning labeling errors; extend comment periods (both self-initiated and in response to a petition for extension of time) for noncontroversial rulemakings; make technical amendments or corrections to a final rule; extend the effective date of a noncontroversial final rule; administer the NHTSA enforcement program for all laws, standards, and regulations pertinent to vehicle safety, fuel economy, theft prevention, damageability, consumer information and odometer fraud, authorized under Chapters 301, 323, 325, 327, 329, and 331 of title 49, United States Code; issue regulations relating to the importation of motor vehicles under sections 30141 through 30147 of title 49, United States Code; and grant and deny petitions for import eligibility determinations submitted to NHTSA by motor vehicle manufacturers and registered importers under 49 U.S.C. 30141.

(g) Senior Associate Administrator for Traffic Injury Control. The Senior Associate Administrator for Traffic Injury Control is delegated authority for executive direction of the Associate Administrator for Research and Program Development and the Associate Administrator for Regional Operations and Program Delivery. To carry out this direction, the Senior Associate Administrator for Traffic Injury Control is delegated authority, except for authority reserved to the Administrator, over programs with respect to: Chapter 4 of title 23, United States Code, as amended; the authority vested by section 210(2) of the Clean Air Act, as amended (42 U.S.C. 7544(2)); the authority vested by 49 U.S.C. 20134(a), with respect to the laws administered by the Administrator pertaining to highway, traffic, and motor vehicle safety; and the authority vested by sections 153, 154, 158, 161, 163, and 164 of title 23, United States Code, in coordination with the Federal Highway Administrator as appropriate. The Senior Associate Administrator for Traffic Injury Control is also delegated authority to exercise the powers and perform the duties of the Administrator with respect to State highway safety programs under 23 U.S.C. 402 and National Priority Safety Programs under 23 U.S.C. 405, including approval and disapproval of State highway safety plans and vouchers, in accordance with the procedural requirements of the Administration.

Issued in Washington, DC on: April 10, 2013. under authority delegated in 49 CFR 1.95
David L. Strickland,
Administrator.

[FR Doc. 2013-09122 Filed 4-17-13; 8:45 am]

BILLING CODE 4910-59-P